DEPARTMENT OF ENERGY

Federal Energy Regulatory Commission

[Project No. 2082-027]

PacifiCorp; Notice of Designation of Certain Commission Staff as Non-Decisional

February 4, 2009.

Commission staff member James Hastreiter (Office of Energy Projects (503) 552-2760; james.hastreiter@ferc.gov) is designated as “non-decisional” staff and is assigned to help resolve environmental and other issues associated with development of a settlement agreement for the Klamath Hydroelectric Project, and to help ensure compatibility of any offer of settlement or settlement agreement with Commission procedure and licensing process.

As “non-decisional” staff, Mr. Hastreiter will not participate in an advisory capacity in the Commission's review of any offer of settlement or settlement agreement, or deliberations concerning the disposition of the relicense application.

Different Commission “advisory staff” will be assigned to review any offer of settlement or settlement agreement, and to process the relicense application, including providing advice to the Commission with respect to the agreement and the application. Non-decisional staff and advisory staff are prohibited from communicating with one another concerning the settlement and the relicense application.

Kimberly D. Bose,
Secretary.

[FR Doc. E9-2874 Filed 2-10-09; 8:45 am]

BILLING CODE 6717-01-P